DEPARTMENT OF ENERGY

Federal Energy Regulatory Commission

Combined Notice of Filings #1

November 16, 2005.

Take notice that the Commission received the following electric rate filings:

Docket Numbers: ER00-874-002.

Applicants: Energy West Resources, Inc.

Description: Energy West Resources, Inc. submits a compliance filing to correct a typographical error in its market behavior rules in FERC's November 3, 2005 Order.

Filed Date: November 7, 2005.

Accession Number: 20051114-0011.

Comment Date: 5 p.m. Eastern Time on Monday, November 28, 2005.

Docket Numbers: ER01-3000-009; EC01-146-001; RT01-101-001; ER05-1435-001.

Applicants: Midwest Independent Transmission System Operator, Inc.

Description: Midwest Independent Transmission System Operator, Inc.'s additional signature pages to the Supplemental Agreement with Midwest ISO International Transmission Co. et al.

Filed Date: November 7, 2005.

Accession Number: 20051114-0014.

Comment Date: 5 p.m. Eastern Time on Monday, November 28, 2005.

Docket Numbers: ER04-776-006.

Applicants: PJM Interconnection, LLC.

Description: PJM submits for filing a State Certification by General Counsel of Public Service Commission of Maryland as required by the Operating Agreement.

Filed Date: October 19, 2005.

Accession Number: 20051019-5076.

Comment Date: 5 p.m. Eastern Time on Wednesday, November 28, 2005.

Docket Numbers: ER06-158-000.

Applicants: Midwest Independent Transmission System Operator, Inc.

Description: Midwest Independent Transmission System Operator, Inc. submits an unexecuted Large Generator Interconnection Agreement with Summit Wind, LLC and Interstate Power and Light Co., effective October 26, 2005.

Filed Date: November 7, 2005.

Accession Number: 20051109-0008.

Comment Date: 5 p.m. Eastern Time on Monday, November 28, 2005.

Docket Numbers: ER06-164-000.

Applicants: Duke Energy Corporation.

Description: Duke Energy Corp on behalf of Duke Electric Transmission submits Second Revised Sheet No. 10 et al. to FERC Electric Tariff, Third Revised Volume No. 4 in compliance with FERC's October 7, 2005 order.

Filed Date: November 7, 2005.

Accession Number: 20051109-0171.

Comment Date: 5 p.m. Eastern Time on Monday, November 28, 2005.

Docket Numbers: ER06-165-000.

Applicants: Florida Power & Light Company.

Description: Florida Power & Light Co submits revised Tariff Sheets adopting the revised TLR procedures.

Filed Date: November 7, 2005.

Accession Number: 20051109-0170.

Comment Date: 5 p.m. Eastern Time on Monday, November 28, 2005.

Docket Numbers: ER06-166-000.

Applicants: Aquila, Inc.

Description: Aquila, Inc. on behalf of Aquila Networks-MPS et al. submits First Revised Sheet No. 7 et al. to FERC Electric Tariff, Fourth Revised Volume No. 24 pursuant to section 205 of the Federal Power Act.

Filed Date: November 7, 2005.

Accession Number: 20051109-0169.

Comment Date: 5 p.m. Eastern Time on Monday, November 28, 2005.

Docket Numbers: ER06-167-000.

Applicants: Liberty Power Maryland LLC.

Description: Liberty Power Maryland LLC submits petition for acceptance of initial rate schedule, waivers & blanket authority.

Filed Date: November 7, 2005.

Accession Number: 20051109-0250.

Comment Date: 5 p.m. Eastern Time on Monday, November 22, 2005.

Docket Numbers: ER06-168-000.

Applicants: NorthWestern Corporation.

Description: NorthWestern Corp. submits Original Sheet 1 et al. to FERC Electric Tariff, First Revised Volume No. 2 for its South Dakota operations etc.

Filed Date: November 7, 2005.

Accession Number: 20051109-0210.

Comment Date: 5 p.m. Eastern Time on Monday, November 28, 2005.

Docket Numbers: ER06-169-000.

Applicants: Suez Energy Marketing NA.

Description: Suez Energy Marketing NA submits notice of succession to reflect new corporate name re an application to make sales of ancillary services at market-based rates etc. pursuant to section 205 of the Federal Power Act.

Filed Date: November 7, 2005.

Accession Number: 20051109-0174.

Comment Date: 5 p.m. Eastern Time on Monday, November 28, 2005.

Docket Numbers: ER06-173-000.

Applicants: Entergy Services, Inc.

Description: Entergy Services, Inc. as agent on behalf of Entergy Operating Companies submits an amendment to its OATT, consisting of First Revised Sheet No. 54 et al. to FERC Electric Tariff, Second Revised Volume No. 3.

Filed Date: November 7, 2005.

Accession Number: 20051109-0245.

Comment Date: 5 p.m. Eastern Time on Monday, November 28, 2005.

Docket Numbers: ER06-174-000.

Applicants: Mid-Continent Area Power Pool.

Description: Mid-Continent Area Power Pool et al. submits Second Rev. Sheet No. 137 reflecting that their Schedule F is modified to adopt North American Electric Reliability Council's most recent version of its TLR Procedures.

Filed Date: November 7, 2005.

Accession Number: 20051109-0246.

Comment Date: 5 p.m. Eastern Time on Monday, November 28, 2005.

Docket Numbers: ER06-175-000.

Applicants: Sierra Pacific Power Company.

Description: Sierra Pacific Power Co. submits revisions to Exhibit F of the General Transfer Agreement with Bonneville Power Administration.

Filed Date: November 7, 2005.

Accession Number: 20051109-0247.

Comment Date: 5 p.m. Eastern Time on Monday, November 28, 2005.

Docket Numbers: ER06-176-000.

Applicants: PSEG Waterford Energy LLC.

Description: PSEG Waterford Energy LLC submits notice of cancellation of market-based authority under Applicant's FERC Electric Tariff, Original Volume No. 1.

Filed Date: November 7, 2005.

Accession Number: 20051109-0248.

Comment Date: 5 p.m. Eastern Time on Monday, November 28, 2005.

Docket Numbers: ER06-177-000.

Applicants: Econnergy Energy Company, Inc.

Description: Econnergy Energy Co., Inc. requests cancellation of Market Based Rate Authority.

Filed Date: November 7, 2005.

Accession Number: 20051109-0236.

Comment Date: 5 p.m. Eastern Time on Monday, November 28, 2005.

Docket Numbers: ER94-142-029; ER05-570-004; ER98-3774-004; ER03-717-003; ER00-2603-004.

Applicants: Tractebel Energy Marketing, Inc.; Hot Spring Power Company, LP; Choctaw Generation Limited Partnership; Chehalis Power Generation Ltd; Trigen-Syracuse Energy Corporation.

Description: Tractebel Energy Marketing Inc. et al. submits a triennial market power update and revisions to market-based rate tariffs.

Filed Date: November 7, 2005.

Accession Number: 20051110-0103.

Comment Date: 5 p.m. Eastern Time on Monday, November 28, 2005.

Docket Numbers: ER95-1787-018.

Applicants: Texaco Natural Gas, Inc.

Description: Texaco Natural Gas, Inc. submits a compliance filing to correct a typographical error in its market behavior rules in FERC's November 3, 2005 Order.

Filed Date: November 7, 2005.

Accession Number: 20051114-0010.

Comment Date: 5 p.m. Eastern Time on Monday, November 28, 2005.

Docket Numbers: ER96-2830-007.

Applicants: Washington Gas Energy Services, Inc.

Description: Washington Gas Energy Services, Inc. submits a compliance filing to correct a typographical error in its market behavior rules in FERC's November 3, 2005 Order.

Filed Date: November 7, 2005.

Accession Number: 20051114-0013.

Comment Date: 5 p.m. Eastern Time on Monday, November 28, 2005.

Docket Numbers: ER99-3077-002.

Applicants: Colorado Power Partners.

Description: Colorado Power Partners submits an amendment to the Triennial Updated Market Power Analysis and a request for shortened notice period.

Filed Date: November 10, 2005.

Accession Number: 20051115-0033.

Comment Date: 5 p.m. Eastern Time on Monday, November 21, 2005.

Docket Numbers: ER99-3197-002.

Applicants: BIV Generation Company, LLC.

Description: BIV Generation Co., LLC submits an amendment to the Triennial Updated Market Power Analysis and a request for shortened notice period.

Filed Date: November 10, 2005.

Accession Number: 20051115-0032.

Comment Date: 5 p.m. Eastern Time on Monday, November 21, 2005.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-6472 Filed 11-23-05; 8:45 am]

BILLING CODE 6717-01-P